DEPARTMENT OF HOMELAND SECURITY

U.S. Immigration and Customs Enforcement

[OMB Control Number 1653-0049]

Agency Information Collection Activities; Extension, Without Change, of a Currently Approved Collection: Suspicious/Criminal Activity Tip Reporting

AGENCY: U.S. Immigration and Customs Enforcement, Department of Homeland Security.

ACTION: 30-Day notice.

SUMMARY: In accordance with the Paperwork Reduction Act (PRA) of 1995 the Department of Homeland Security (DHS), U.S. Immigration and Customs Enforcement (ICE) will submit the following Information Collection Request (ICR) to the Office of Management and Budget (OMB) for review and clearance. This information collection was previously published in the Federal Register on December 13, 2019, allowing for a 60-day comment period. ICE received no comments. The purpose of this notice is to allow an additional 30 days for public comments.

DATES: Comments are encouraged and will be accepted until June 22, 2020.

ADDRESSES: Written comments and recommendations should be sent within 30 days of publication of this notice via the Federal eRulemaking Portal website at http://www.regulations.gov under e-Docket ID number ICEB-2019-0010; The comments submitted via this method are visible to the Office of Management and Budget, and comply with the requirements of 5 CFR 1320.12(c).

FOR FURTHER INFORMATION CONTACT: For specific question related to collection activities, please contact Jody C. Fasenmyer (802-662-8115), jody.c.fasenmyer@ice.dhs.gov, U.S. Immigration and Customs Enforcement.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, Without Change, of a Currently Approved Collection.

(2) Title of the Form/Collection: Suspicious/Criminal Activity Tip Reporting.

(3) Agency form number, if any, and the applicable component of the Department of Homeland Security sponsoring the collection: U.S. Immigration and Customs Enforcement.

(4) Affected public who will be asked or required to respond, as well as a brief abstract: Primary: Individual or Households. The Department of Homeland Security (DHS) tip reporting capability will facilitate the collection of information from the public and law enforcement partners regarding allegations of crimes enforced by DHS.

(5) An estimate of the total number of responses and the amount of time estimated for an average respondent to respond: ICE estimates a total of 139,381 responses at .10 minutes (.167 hours) per response.

(6) An estimate of the total public burden (in hours) associated with the collection: 23,230 annual burden hours.

Dated: May 18, 2020.
Scott Elmore,
PRA Clearance Officer.

[FR Doc. 2020-10950 Filed 5-20-20; 8:45 am]

BILLING CODE 9111-28-P